DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: State and Local Government Finance Forms.

OMB Control Number: 0607-0585.

Form Number(s): F-5, F-11, F-12, F-12(S), F-13, F-25, F-28, F-29, F-32, F-42.

Type of Request: Revision of a currently approved collection.

Burden Hours: 74,358.

Number of Respondents: 31,409.

Average Hours per Response: 2 hours and 22 minutes average across all forms.

Needs and Uses: This survey provides government finance data for state and local governments. It is the only known comprehensive source of state and local government finance data collected on a nationwide scale using uniform definitions, concepts, and procedures. This survey is conducted annually, as a national census every five years, and as a sample survey in each of the four intervening years. The Census Bureau provides these data to the Federal Reserve Board for constructing the Nation's Flow of Funds Accounts and the Bureau of Economic Analysis for the National Income and Product Accounts. The data are also used to monitor the government sector of the economy and to formulate, develop, and review public policy. Federal agencies, state and local governments, and the private sector all use these data. The respondents to this survey are state and local government officials.

Our planned form changes for FY2011 include adding additional tax collection line items on the F-5 form and collecting one additional market value item on the F-11, F-12, and F-12(S) forms. The expected burden hour estimate will remain unchanged for these forms. In addition, for the 2012 retirement F-11, F-12, and F-12(S) forms, we plan to add additional collection detail for membership and benefits for defined benefit plans, receipts/payments for defined benefit plans, holdings and investment for defined benefit plans, and actuarial information for defined benefit plans (F-12 only). The burden hour estimate will increase from 2.0 to 2.5 hours for each of the respective forms.

Affected Public: State, local or tribal government.

Frequency: Annually.

Respondent's Obligation: Voluntary.

Legal Authority: Title 13 U.S.C., Sections 161 and 182.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 5, 2011.
Glenna Mickelson,
Management Analyst, Office of the Chief Information Officer.

[FR Doc. 2011-11338 Filed 5-9-11; 8:45 am]

BILLING CODE 3510-07-P